DEPARTMENT OF STATE

[Public Notice 9307]

In the Matter of the Designation of Jund al-Khilafah in Algeria, aka Jak-A, aka Jund al-Khalifa fi Ard al-Jazayer, aka Jund al-Khilafah fi Ard al-Jaza'ir, aka Soldiers of the Caliphate in Algeria, aka Caliphate Soldiers of Algeria, aka Soldiers of the Caliphate in the Land of Algeria, aka Jund al Khalifa-Algeria, aka Jund al-Khalifa, aka Jund al-Khilafa Group as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the entity known as Jund al-Khilafah in Algeria, also known as Jak-A, also known as Jund al-Khalifa fi Ard al-Jazayer, also known as Jund al-Khilafah fi Ard al-Jaza'ir, also known as Soldiers of the Caliphate in Algeria, also known as Caliphate Soldiers of Algeria, also known as Soldiers of the Caliphate in the Land of Algeria, also known as Jund al Khalifa-Algeria, also known as Jund al-Khalifa, also known as Jund al-Khilafa Group committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: September 24, 2015.
John F. Kerry,
Secretary of State.

[FR Doc. 2015-25004 Filed 9-30-15; 8:45 am]

BILLING CODE 4710-AD-P